DEPARTMENT OF LABOR

Office of the Secretary

Submission for OMB Review: Comment Request

October 21, 2005.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Ira Mills on 202-693-4122 (this is not a toll-free number) or E-Mail: Mills.Ira@dol.gov.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of currently approved collection.

Title: Workforce Investment Act (WIA) National Emergency Grant (NEG) Financial Reporting Requirements.

OMB Number: 1205-0434.

Frequency: Quarterly.

Affected Public: State, local or tribal government; Business or other for-profit; and Not-for-profit institutions.

Type of Response: Reporting.

Number of Respondents: 40.

Annual Responses: 320.

Average Response Time: 30 minutes.

Total Annual Burden Hours: 160.

Total Annualized Capital/Startup Costs: 0.

Total Annual Costs (operating/maintaining systems or purchasing services): 0.

Description: Pursuant to Public Law 105-220, dated August 7, 1998 and WIA Final Rule, 20 CFR 652, et al., dated August 11, 2000. Emergency Grant financial reporting requirements were developed to achieve compliance with the statute. Section 185(e) and (f) require that States report quarterly all program and activity costs by cost category and by year of appropriation, any income or profits earned, and any cost incurred such as stand-in costs that are otherwise allowable except for funding limitations. Sec. 185(g) requires that costs only be categorized as administrative or programmatic costs. The Regulations at 20 CFR 667.300 require that DOL issue financial reporting instructions to the States and other direct grant recipients. These financial reporting requirements represent the Department's only means for obtaining the statutorily required data. Software containing the required data elements has been provided to the grantees (with built-in edit checks) to enable electronic reporting via the Internet.

Ira L. Mills,
Departmental Clearance Officer.

[FR Doc. 05-21533 Filed 10-27-05; 8:45 am]

BILLING CODE 4510-30-P